FEDERAL ELECTION COMMISSION

Sunshine Act Notices

The open meeting scheduled for Thursday, January 8, 2009, was cancelled.

Date & Time: Tuesday, January 13, 2009, At 10 a.m.

Place: 999 E Street, NW., Washington, DC.

Status: This meeting will be closed to the public.

Items To Be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date & Time: Thursday, January 15, 2009, at 10 a.m.

Place: 999 E street, N.W., Washington, DC (ninth floor).

Status: This meeting will be open to the public.

Items To Be Discussed: Correction and Approval of Minutes.

Draft Advisory Opinion 2008-18: Mid-Atlantic Benefits, by Michael Dupay.

Draft Advisory Opinion 2008-19: Texans for Lamar Smith, by Pike Powers, Treasurer.

Explanation and Justification for Rules on Lobbyist Bundling of Contributions. Management and Administrative Matters.

Individuals who plan to attend and require special assistance, such as sign language interpretation or other reasonable accommodations, should contact Mary Dove, Commission Secretary, at (202) 694-1040, at least 72 hours prior to the hearing date.

PERSON TO CONTACT FOR INFORMATION: Judy Ingram, Press Officer, Telephone: (202) 694-1220.

Mary W. Dove,
Secretary of the Commission.

[FR Doc. E9-404 Filed 1-13-09; 8:45 am]

BILLING CODE 6715-01-M